DEPARTMENT OF HEALTH AND HUMAN SERVICES

Food and Drug Administration

[Docket No. FDA-2010-D-0378]

Draft Compliance Policy Guide Sec. 690.800 Salmonella in Animal Feed; Availability; Extension of Comment Period

AGENCY: Food and Drug Administration, HHS.

ACTION: Notice; extension of comment period.

SUMMARY: The Food and Drug Administration (FDA) is extending to December 31, 2010, the comment period for a notice of availability of a draft compliance policy guide (CPG) that appeared in the Federal Register of August 2, 2010 (75 FR 45130). In the document, FDA requested comments on its proposal that certain criteria should be considered in recommending enforcement action against animal feed or feed ingredients that are adulterated due to the presence of Salmonella. The Agency is taking this action in response to requests for an extension to allow interested persons additional time to submit comments.

DATES: Submit either electronic or written comments by December 31, 2010.

ADDRESSES: Submit electronic comments on the draft CPG to http://www.regulations.gov. Submit written comments on the draft CPG to the Division of Dockets Management (HFA-305), Food and Drug Administration, 5630 Fishers Lane, rm. 1061, Rockville, MD 20852.

FOR FURTHER INFORMATION CONTACT: Kim Young, Center for Veterinary Medicine (HFV-230), Food and Drug Administration, 7519 Standish Pl., MPN-4, rm. 106, Rockville, MD 20855, 240-276-9200, e-mail: Kim.young@fda.hhs.gov.

SUPPLEMENTARY INFORMATION:

I. Background

In the Federal Register of August 2, 2010 (75 FR 45130), FDA published a notice of availability of a draft CPG with a 90-day comment period to request comments on its proposal that certain criteria should be considered in recommending enforcement action against animal feed or feed ingredients that are adulterated due to the presence of Salmonella. The Agency has received a request for a 60-day extension of the comment period for the draft CPG. The request conveyed concern that the current 90-day comment period does not allow sufficient time to develop a meaningful or thoughtful response to the draft CPG. FDA has considered the request and is extending the comment period for the draft CPG for 60 days, until December 31, 2010.

II. Request for Comments

Interested persons may submit to the Division of Dockets Management (see ADDRESSES) either electronic or written comments on this document. It is only necessary to send one set of comments. It is no longer necessary to send two copies of mailed comments. Identify comments with the docket number found in brackets in the heading of this document. Received comments may be seen in the Division of Dockets Management between 9 a.m. and 4 p.m., Monday through Friday.

Dated: October 26, 2010.
Dara Corrigan,
Associate Commissioner for Regulatory Affairs.

[FR Doc. 2010-27448 Filed 10-28-10; 8:45 am]

BILLING CODE 4160-01-P